DEPARTMENT OF COMMERCE

International Trade Administration

[A-570-803]

Notice of Amended Final Results of Antidumping Duty Administrative Reviews: Heavy Forged Hand Tools, Finished or Unfinished, With or Without Handles, From the People's Republic of China

AGENCY: Import Administration, International Trade Administration, Department of Commerce.

SUMMARY: On October 11, 2005, the United States Court of Appeals for the Federal Circuit (“CAFC”) affirmed the ruling of the United States Court of International Trade (“CIT”), sustaining the final results of administrative reviews issued by the Department of Commerce (the Department) on September 12, 2002, and the Department's February 6, 2003 remand redetermination. Because all litigation in this matter has concluded, we are correcting certain ministerial errors identified during a court remand redetermination. The period of review (“POR”) for these administrative reviews is February 1, 2000, through January 31, 2001.

EFFECTIVE DATE: February 28, 2006.

FOR FURTHER INFORMATION CONTACT: Thomas Martin or Mark Manning, AD/CVD Operations, Office 4, Import Administration, International Trade Administration, U.S. Department of Commerce, 14th Street and Constitution Avenue, NW., Washington, DC 20230; telephone: (202) 482-3936 or (202) 482-5253, respectively.

SUPPLEMENTARY INFORMATION:

Background

On September 12, 2002, the Department published the final results for the tenth review of the antidumping duty orders on heavy forged hand tools (“HFHTs”) from the People's Republic of China (PRC). See Heavy Forged Hand Tools From the People's Republic of China: Final Results and Partial Rescission of Antidumping Duty Administrative Review and Determination Not To Revoke in Part, 67 FR 57789 (September 12, 2002) (“Final Results”). On September 16, 2002, the petitioner Ames True Temper, and the respondents, Shandong Machinery Import & Export Corporation (“SMC”), Tianjin Machinery Import & Export Corporation (“TMC”), Liaoning Machinery Import & Export Corporation (“LMC”), and Shandong Huarong General Group Corporation (“Huarong”), timely filed allegations that the Department made several ministerial errors in its final results. On September 23, 2002, the petitioner and respondents filed rebuttal comments. Before the Department could issue its ruling on the ministerial error allegations, TMC, LMC, Huarong, and SMC jointly filed a summons and complaint with the CIT to contest the Department's decision as to the bars/wedges and picks/mattocks orders on September 30, 2002. On October 8, 2002, the respondents amended their complaint to include the Department's decision with respect to all four classes or kinds of merchandise. The respondents filed a second amended complaint on November 8, 2002, whereby SMC and LMC were removed as party-plaintiffs. The second amended complaint also removed TMC's claims with respect to the final results of the review of the bars/wedges order, thus limiting TMC's litigation to decisions regarding the axes/adzes, hammers/sledges, and picks/mattocks orders. Huarong's claims were limited to the final results of the review of the bars/wedges order in the original complaint.

After analyzing the ministerial error allegations, the Department issued amended final results with respect to all products sold by SMC and LMC, and TMC's bars/wedges, which were not subject to litigation. See Notice of Amended Final Antidumping Duty Administrative Reviews: Heavy Forged Hand Tools From the People's Republic of China, 68 FR 7347 (February 13, 2003); Notice of Amended Final Results of Antidumping Duty Administrative Reviews: Heavy Forged Hand Tools From the People's Republic of China (Hammers/Sledges), 68 FR 14943 (March 27, 2003).

For the remaining merchandise under review, TMC's axes/adzes, hammers/sledges and picks/mattocks orders, and Huarong's bars/wedges, the Department issued a remand redetermination pursuant to the CIT's remand instructions to address the ministerial error allegations previously submitted by the parties. See Final Results of Redetermination Pursuant to Court Remand, Tianjin Machinery Import and Export Corporation and Shandong Huarong General Group Corp., v. United States, Court No. 02-00637, dated February 6, 2003 (“Remand Redetermination”). While correcting the errors identified by the parties, we identified several additional ministerial errors for TMC's three classes or kinds of subject merchandise, and Huarong's bars/wedges. However, as the CIT directed the Department to address only the errors identified by the parties, we did not take into account these additional errors in the calculations submitted to the CIT in the Remand Redetermination. See Remand Redetermination.

On October 4, 2004, the CIT sustained the Final Results and Remand Redetermination. See Tianjin Mach. Imp. & Exp. Corp. v. United States, 353 F. Supp. 2d 1294 (CIT 2004). On November 15, 2004, TMC and Huarong appealed the decision of the CIT to the CAFC. On October 11, 2005, the CAFC affirmed the ruling of the CIT. See Tianjin Mach. Imp. & Exp. Corp. v. United States, 146 Fed. Appx. 493 (Fed. Cir. 2005).

The litigation in these administrative reviews is now final. Since jurisdiction of this case has returned to the Department, we are now issuing corrected antidumping duty margins that reflect corrections for the errors identified by the parties and the additional errors found by the Department during litigation.

Amended Final Results of Review

After analyzing all interested parties' comments, we have determined, in accordance with 19 CFR 351.224(e), that ministerial errors existed in the calculations for the Final Results, with respect to TMC and Huarong. A ministerial error is defined in section 751(h) of the Tariff Act of 1930, as amended (“the Act”), and further clarified in 19 CFR 351.224(f) as “an error in addition, subtraction, or other arithmetic function, clerical error resulting from inaccurate copying, duplication, or the like, and any other similar type of unintentional error which the Secretary considers ministerial.” For a detailed discussion of the ministerial errors in TMC and Huarong's calculations, as well as the Department's analysis, see Memorandum from Thomas E. Martin to The File, “Correction of Ministerial Errors Pursuant to the Amended Final Results of the Tenth Administrative Reviews of Heavy Forged Hand Tools, Finished or Unfinished, With or Without Handles (“HFHTS”), from the People's Republic of China (“PRC”) Covering the Period of Review (“POR”) February 1, 2000, through January 31, 2001; Tianjin Machinery Import & Export Corporation (“TMC”),” dated February 21, 2006; and see Memorandum from Thomas E. Martin to The File, “Correction of Ministerial Errors Pursuant to the Amended Final Results of the Tenth Administrative Reviews of Heavy Forged Hand Tools, Finished or Unfinished, with or Without Handles (“HFHTS”), from the People's Republic of China (“PRC”) Covering the Period of Review (“POR”) February 1, 2000, through January 31, 2001; Shandong Huarong General Group Corporation (“Huarong”),” dated February 21, 2006, on file in the Central Records Unit, room B-099 in the main Department building.

Therefore, in accordance with section 751(h) of the Act and 19 CFR 351.224(e), we are amending the Final Results of the administrative reviews of the antidumping duty orders on HFHTs from PRC for TMC and Huarong. The revised weighted-average dumping margins are detailed in the chart below.

Manufacturer/exporter | Time Period | Margin (percent)
Tianjin Machinery Import & Export Corporation
Axes/Adzes | 2/1/00-1/31/01 | 5.46
Hammers/Sledges | 2/1/00-1/31/01 | 22.91
Picks/Mattocks | 2/1/00-1/31/01 | 13.57
Shandong Huarong General Group Corporation
Bars/Wedges | 2/1/00-1/31/01 | 18.99

Assessment Rates

The Department will determine, and U.S. Customs and Border Protection (“CBP”) shall assess, antidumping duties on all appropriate entries. In accordance with 19 CFR 351.212(b)(1), for the respondents receiving calculated dumping margins, we calculated importer-specific per-unit duty assessment rates based on the ratio of the total amount of the dumping duties calculated for the examined sales to the total quantity of those same sales. These importer-specific per-unit rates will be assessed uniformly on all entries of each importer that were made during the POR. In accordance with 19 CFR 351.106(c)(2), we will instruct CBP to liquidate without regard to antidumping duties any entries for which the importer-specific assessment rate is de minimis (i.e., less than 0.5 percent ad valorem). In testing whether any importer-specific assessment rate is de minimis, we divided each importer's total amount of dumping duties by the total value of each importer's U.S. sales, which we calculated using net U.S. prices. The Department will issue liquidation instructions directly to CBP within fifteen days of the publication of the amended final results of these administrative reviews.

These amended final results of administrative reviews are issued and published in accordance with section 751(h) of the Act and 19 CFR 351.224(e).

Dated: February 21, 2006.
David M. Spooner,
Assistant Secretary for Import Administration.

[FR Doc. E6-2793 Filed 2-27-06; 8:45 am]

BILLING CODE 3510-DS-S